DEPARTMENT OF DEFENSE

Department of the Army; Corps of Engineers

Intent To Prepare a Draft Environmental Impact Statement and General Reevaluation Report for the Blue River Basin in the Kansas City Metropolitan Area in Jackson and Cass Counties in Missouri, and Johnson, Wyandotte, and Miami Counties in Kansas

AGENCY: Department of the Army, U.S. Army Corps of Engineers, DoD.

ACTION: Notice of intent.

SUMMARY: The U.S. Army Corps of Engineers, Kansas City District, intends to prepare a Draft Environmental Impact Statement (DEIS) and General Reevaluation Report (GRR) for the Blue River Basin to evaluate flood damage reduction, environmental resource restoration, recreational resource development, and water quality improvement in the watershed. The Blue River drainage basin is approximately 272 square miles located in the Kansas City Metropolitan Area in Jackson and Cass counties of Missouri, and Johnson, Wyandotte, and Miami counties in Kansas. The GRR is a reanalysis of a previously authorized plan for the Blue River Basin using updated planning criteria and policies. The results of this study may affirm the previous plan; reformulate and modify the existing plan, as appropriate; or find that no plan is currently justified. The purpose of this DEIS is to analyze both beneficial and adverse impacts to the natural, physical and human environment as a result of implementing any of the proposed project alternatives that may be developed from the GRR analysis and the EIS process.

FOR FURTHER INFORMATION CONTACT: John D. Holm, Planning, Programs, & Project Management Division or Mr. Matthew D. Vandenberg, Environmental Resource Section, Attn: CENWK-PM-PR, U.S. Army Engineer District, Kansas City, 601 East 12th Street, Kansas City, MO 64106-2896, Phone 816-983-3100 or e-mail to: John.D.Holm@usace.army.mil.

SUPPLEMENTARY INFORMATION:

1. Background: Public Law 91-611, River and Harbor Act of 1970 (1970 Flood Control Act), authorized the project for “flood protection and other purposes in the Blue River Basin, vicinity of Kansas City, MO and Kansas.” “The project for flood protection and other purposes in the Blue River Basin * * * is hereby authorized substantially in accordance with the recommendations of the Chief Engineers in House Document, Numbered 91-332, except that not to exceed $40,000,000 is authorized for initiation and partial accomplishment of the project.” House Document 91-332, in the Report of the Chief of Engineers, on page 6 states: “The major problem in the basin is the widespread and damaging floods which destroy property and cause hazards to life, particularly in the highly industrialized lower basin area. Only slightly less acute is the need for streamflow supplementation to alleviate the poor quality from unsightliness of low-flow condictions. There are definite needs for water-based recreation and enhancement of the fish and wildlife resources. Any plan of improvement should provide for the preservation and enhancement of parks, parkways, and historical sites.”

2. Scoping Process: Scoping meetings will be held during 2004 in the Blue River Basin to obtain comments and input concerning the proposed Blue River basin reevaluation study. The scoping meetings will be advertised in the local papers and a mailing list will be used to notify the public and other interested parties of these meetings. The public, native American tribes, and affected government agencies at the local, State, and federal level are encouraged to participate in the scoping process by forwarding written comments to the above noted address. Interested parties may also request to be included on the mailing list for public distribution of meeting announcements and the status of EIS document preparation. Environmental consultation and review will be conducted in accordance with the requirements of the National Environmental Policy Act of 1969, as per regulations of the Council of Environmental Quality (40 CFR parts 1500-1508), and other applicable laws, regulations, and guidelines.

3. Availability of EIS Documents: The availability of the Draft and Final EIS will be presented in the Federal Register and by notices in the local papers. The mailing list will also be used to notify interested parties of the availability and location of the Draft and Final EIS for public review.

Brenda S. Bowen,
Alternate Army Federal Register Liaison Officer.

[FR Doc. 04-7196 Filed 3-30-04; 8:45 am]

BILLING CODE 3710-KN-M